DEPARTMENT OF TRANSPORTATION

Federal Transit Administration

[FTA Docket No. FTA 2009-0040]

Agency Information Collection Activity Under OMB Review

AGENCY: Federal Transit Administration, DOT.

ACTION: Notice of request for comments.

SUMMARY: The Federal Transit Administration invites public comment about our intention to request the Office of Management and Budget's (OMB) approval to renew the following information collection: Tribal Transit Program (OMB Number: 2132-0567). The information to be collected for this program is to ensure FTA's compliance with applicable Federal laws and the Common Grant Rule. The Federal Register Notice with a 60-day comment period soliciting comments was published on May 13, 2009.

DATES: Comments must be submitted before September 10, 2009. A comment to OMB is most effective if OMB receives it within 30 days of publication.

FOR FURTHER INFORMATION CONTACT: Sylvia L. Marion, Office of Administration, Office of Management Planning, (202) 366-6680.

SUPPLEMENTARY INFORMATION: Title: Tribal Transit Program.

Abstract: FTA's Tribal Transit Program provides financial assistance to federally recognized Indian tribes for public transportation services on and around Indian reservations located in rural areas. Eligibility is based on the statutory provisions of 49 U.S.C. 5311-Nonurbanized Area Formula Program. The provisions of the American Recovery and Reinvestment Act of 2009, Title 49 U.S.C. section 5311, 49 CFR part 18 Uniform Administrative Requirements for Grants and Cooperative Agreements to State and Local Governments (the Common Grant Rule), and prudent administration of Federal grant funds dictate that grantor agencies review applications for Federal assistance to assure eligibility and other criteria, as appropriate, and monitor approved projects to ensure timely expenditure of Federal funds by grant recipients. Information collected under this program is structured to comply with Federal mandates. The reporting requirements are submitted by recipients in two stages: the application stage and the project management stage.

The American Recovery Act of 2009 (ARRA) established funding for the Tribal Transit Program. This program is a $17,000,000 discretionary grant program to support capital investments for public transit services that serve Indian tribes and Alaska Native villages. To meet the requirements of the American Recovery Act, FTA requested an emergency approval from OMB for the Tribal Transit Program. OMB approved FTA's emergency request for approval on March 17, 2009. The OMB Control Number is 2132-0567. FTA published a Federal Register Notice on March 23, 2009, for Public Transportation on Indian Reservations Program: Tribal Transit Program under the American Recovery and Reinvestment Act of 2009.

Estimated Total Annual Burden: 3,195 hours.

ADDRESSES: All written comments must refer to the docket number that appears at the top of this document and be submitted to the Office of Information and Regulatory Affairs, Office of Management and Budget, 725 17th Street, NW., Washington, DC 20503, Attention: FTA Desk Officer.

Comments Are Invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued on: August 5, 2009.
Ann M. Linnertz,
Associate Administration for Administration.

[FR Doc. E9-19113 Filed 8-10-09; 8:45 am]

BILLING CODE 4910-57-P